DEPARTMENT OF THE INTERIOR

Bureau of Land Management

[LLUTC00000-L51010000-ER0000-LVRWJ09J4050; UTU-83067]

Notice of Availability of Final Environmental Impact Statement for the Sigurd to Red Butte No. 2—345-Kilovolt Transmission Line Project; Utah

AGENCY: Bureau of Land Management, Interior.

ACTION: Notice of availability.

SUMMARY: In accordance with the National Environmental Policy Act of 1969 (NEPA) as amended and the Council on Environmental Quality regulations, the Bureau of Land Management (BLM) has prepared a Final Environmental Impact Statement (EIS) for the Sigurd to Red Butte No. 2—345-Kilovolt (kV) Transmission Line Project (Project) and by this notice announces the availability of the Final EIS for public review.

DATES: The document will be available for public review for 30 days following the publication of a Notice of Availability (NOA) in the Federal Register by the Environmental Protection Agency (EPA).

ADDRESSES: Copies of the Final EIS have been sent to affected Federal, State, and local government agencies and to other stakeholders. Copies are available for public review at the following offices:

• BLM Cedar City Field Office, 176 East D.L. Sargent Drive, Cedar City, Utah 84721

• BLM Richfield Field Office, 150 East, 900 North, Richfield, Utah 84701

• BLM Fillmore Field Office, 35 East, 500 North, Fillmore, Utah 84631

• Dixie National Forest Office, 1789 North Wedgewood Lane, Cedar City, Utah 84721

• Fishlake National Forest Office, 115 East 900 North, Richfield, Utah 84701

FOR FURTHER INFORMATION CONTACT: For further information, contact Tamara Gertsch, National Project Manager; telephone 307-775-6115; email utsrbproj@blm.gov; address BLM Cedar City Field Office, 176 East D.L. Sargent Drive, Cedar City, Utah 84721. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: PacifiCorp, doing business as Rocky Mountain Power (Proponent), has filed applications for a right-of-way across lands administered by the BLM and a special use permit across lands administered by the United States Forest Service (USFS) and is proposing to construct, operate, and maintain the Project, a single-circuit, alternating current 345-kV, overhead transmission line. If approved, the BLM would issue a right-of-way grant and the USFS would issue a special-use permit authorization for the transmission line and associated facilities. The transmission line would be located between the existing Sigurd Substation near Richfield in Sevier County, Utah, and the existing Red Butte Substation near the community of Central in Washington County, Utah, a distance of approximately 170 miles, depending on the route selected. The Project also includes the addition of new substation equipment for interconnecting the transmission line at the existing Sigurd Substation. When completed, the Project would provide about 600 megawatts of electrical capacity to respond to anticipated load growth in southwestern Utah. Alternative routes considered in the Final EIS cross Federal, State, tribal, and private lands. The requested right-of-way width on Federal lands for construction and operation of the Project is 150 feet. The Proponent plans to use predominantly steel-pole H-frame tower structures from 80 to 140 feet in height with average spans between structures of 800 to 1,200 feet (5 to 7 structures per mile). Permanent and temporary access roads, a minimum of 14-feet wide, would be needed for the majority of the Project. Temporary access roads would be needed for construction only. Temporary work space would be needed during construction for material storage, conductor tensioning sites, and to accommodate vehicles and equipment.

Under Federal law, the BLM is responsible for responding to applications for rights-of-way on BLM-administered lands. Similarly, under Federal law, the USFS is responsible for responding to applications for special-use permits on lands they administer. In accordance with NEPA, the BLM prepared a Draft EIS using an interdisciplinary approach in order to consider a variety of resource issues and concerns identified during internal, interagency, and public scoping. An updated inventory of lands with wilderness characteristics was used for this project and lands with wilderness characteristics were analyzed in the Draft EIS and Final EIS. An NOA for the Draft EIS for the Project was published by the EPA in the Federal Register on June 3, 2011 (ER-FRL-8997-3), initiating a 45-day public comment period. In addition, the BLM conducted four open-house meetings in June 2011. Comments received on the Draft EIS were incorporated, where appropriate, to clarify the analysis presented and are included in the Final EIS. The Final EIS analyzes 13 alternative routes and 2 route variations on Federal lands, including the Agency Preferred Alternative.

BLM is the designated lead Federal agency for preparation of the EIS as defined at 40 CFR 1501.5. Agencies with legal jurisdiction or special expertise participating as cooperating agencies in preparation of the EIS include: USFS (Dixie and Fishlake National Forests); United States Army Corps of Engineers; National Park Service; the State of Utah; Utah School and Institutional Trust Lands Administration; Millard, Sevier, Beaver, Iron, and Washington Counties, Utah; and the cities of St. George and Enterprise, Utah.

In response to Section 368 of the Energy Policy Act of 2005 (42 U.S.C. 15926), a Programmatic EIS was prepared by the Department of the Interior and Department of Energy for energy corridors in the 11 Western states (including Washington, Oregon, Idaho, Montana, Wyoming, California, Nevada, Utah, Colorado, Arizona, and New Mexico). An NOA of the Final Programmatic EIS was published in the Federal Register on November 28, 2008 (73 FR 72521). Records of Decision (ROD) on the Programmatic Environmental Impact Statement, Designation of Energy Corridors on Federal Land in the 11 Western States (DOE/EIS-0386), signed January 14, 2009, designate energy corridors and provide guidance, best management practices, and mitigation measures to be used where linear facilities are proposed crossing Federal lands. Where the Programmatic EIS identifies new corridors for the managing agencies, the RODs also amend relevant BLM Resource Management Plans and USFS Land and Resource Management Plans to include the new corridors. Designation of corridors does not require their use, nor does such designation exempt the Federal agencies from conducting an environmental review on each project. The BLM has considered the use of the corridors in preparation of the Sigurd to Red Butte EIS and has incorporated best management practices and mitigation measures.

Documents pertinent to the right-of-way application and the Final EIS for the Project may be viewed on the BLM's project Web site at: http://www.blm.gov/ut/st/en/fo/cedar_city/planning/sigurd_to_red_butte.html or examined at the addresses listed in this notice.

Authority: 40 CFR 1502.19.

Juan Palma,
State Director.

[FR Doc. 2012-24521 Filed 10-4-12; 8:45 am]

BILLING CODE 4310-DQ-P